DEPARTMENT OF AGRICULTURE

Grain Inspection, Packers and Stockyards Administration

Notice of Request for Extension of a Currently Approved Collection of Information

AGENCY: Grain Inspection, Packers and Stockyards Administration.

ACTION: Notice and request for comments.

SUMMARY: In compliance with the Paperwork Reduction Act of 1995 (44 U.S.C. 35), this notice announces the Grain Inspection, Packers and Stockyards Administration's (GIPSA) intention to request an extension for a currently approved collection of information. The collection of information is used to determine whether a State's central filing system for notifying farm product buyers of liens on farm products can be certified by the Secretary.

DATES: We invite you to comment on this notice; we will consider all comments that we receive by July 24, 2001.

ADDRESSES: Send comments to Gerald Grinnell, Economic/Statistical Support, Packers and Stockyards Programs, GIPSA, USDA, 1400 Independence Avenue, SW., Washington, DC 20250-3641; or via facsimile to (202) 690-1266.

Comments received may be inspected during normal business hours in the Economic/Statistical Support offices, room 3052 (same address as listed above).

FOR FURTHER INFORMATION CONTACT: For information regarding the collection of information activities and the use of the information, contact Gerald Grinnell, at (202) 720-7455 (same address as listed above).

For a copy of the collection of information, contact Sharon Vassiliades, GIPSA, Regulatory Contact, at (202) 720-1738.

SUPPLEMENTARY INFORMATION: Title: “Clear Title” Regulations to implement section 1324 of the Food Security Act of 1985 (7 U.S.C. 1631).

OMB Number: 0580-0016.

Expiration Date of Approval: July 31, 2001.

Type of Request: Extension of a currently approved collection of information.

Abstract: The information is needed to carry out the Secretary's responsibility for determining whether a State's central filing system for notification of buyers of farm products of any mortgages or liens on the products meets certification requirements under section 1324 of the Food Security Act of 1985. Section 1324 of the Food Security Act of 1985 requires that States implementing central filing systems for notification of liens on farm products must have such systems certified by the Secretary of Agriculture. GIPSA has been delegated responsibility for certifying the systems. Nineteen States currently have certified central filing systems.

Estimate of Burden: Public reporting and recordkeeping burden for this collection of information is estimated to average 12 hours per response.

Respondents: States seeking certification of central filing systems to notify buyers of farm products of any mortgages or liens on the products.

Estimated Number of Respondents: 1.

Estimated Number of Responses per Respondent: 1.

Estimated Total Annual Burden on Respondents: 12 hours.

We are asking the Office of Management and Budget (OMB) to extend its approval of our use of this collection of information activity for an additional 3 years.

We are soliciting comments to: (1) Evaluate whether the collection of information is necessary for the proper performance of the functions of the agency, including whether the information will have practical utility; (2) evaluate the accuracy of the agency's estimate of the burden of the proposed collection of information, including the validity of the methodology and assumptions used; (3) enhance the quality, utility, and clarity of the information to be collected; and (4) minimize the burden of the collection of information on those who are to respond, including through the use of appropriate automated, electronic, mechanical, or other technological collection techniques or forms of information technology.

All responses to this notice will be summarized and included in the request for OMB approval. All comments will also become a matter of public record.

Dated: May 18, 2001.
David R. Shipman,
Acting Administrator, Grain Inspection, Packers and Stockyards Administrator.

[FR Doc. 01-13269 Filed 5-24-01; 8:45 am]

BILLING CODE 3410-EN-U